DEPARTMENT OF JUSTICE

Federal Bureau of Prisons

Notice of Withdrawal of Record of Decision: Proposed United States Penitentiary and Federal Prison Camp in Letcher County, Kentucky

AGENCY: Federal Bureau of Prisons, U.S. Department of Justice.

ACTION: Notice.

A record of decision (ROD) regarding the proposal by the United States Department of Justice, Federal Bureau of Prisons (Bureau) to acquire a site up to 800 acres in size and construct and operate a United States Penitentiary and Federal Prison Camp in Letcher County, Kentucky, was signed by Mark S. Inch, Director of the Bureau, and the ROD was published in the Federal Register (Vol. 83, No. 71, Page 15870) on Thursday, April 12, 2018.

Based on new information which may be relevant to the environmental analysis for the proposed action, Hugh J. Hurwitz, Acting Director of the Bureau, has withdrawn the ROD published in the Federal Register on Thursday, April 12, 2018, in order to more fully evaluate the new information. This Notice of Withdrawal of Record of Decision is published to inform the public that the ROD for the proposed action described above has been withdrawn.

FOR FURTHER INFORMATION CONTACT: If you have additional questions about this notice, please contact Issac Gaston, Site Selection Specialist; phone: 202-514-6470.

Issac Gaston,
Site Selection Specialist, Construction and Environmental Review Branch.

[FR Doc. 2019-13148 Filed 6-19-19; 8:45 am]

BILLING CODE P